DEPARTMENT OF COMMERCE

Foreign-Trade Zones Board

[B-53-2015]

Application for Additional Production Authority; The Coleman Company, Inc.; Subzone 119I; (Textile-Based Personal Flotation Devices) Extension of Comment Period

The comment period for the application for additional production authority submitted by The Coleman Company, Inc., for activity within Subzone 119I in Sauk Rapids, Minnesota (80 FR 49986, 8-18-2015), is being extended to November 19, 2015, to allow interested parties additional time in which to comment. Rebuttal comments may be submitted during the subsequent 15-day period, until December 4, 2015. Submissions shall be addressed to the FTZ Board's Executive Secretary at: Foreign-Trade Zones Board, U.S. Department of Commerce, Room 21013, 1401 Constitution Avenue NW., Washington, DC 20230-0002.

The applicant has submitted a request to the FTZ Board for a public hearing to be held on its application. The scheduling of the hearing is currently under consideration, and the related details will be announced with a 30-day advance notice at a future date.

A copy of the application is available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: October 7, 2015.
Andrew McGilvray,
Executive Secretary.

[FR Doc. 2015-26139 Filed 10-13-15; 8:45 am]

BILLING CODE 3510-DS-P